DEPARTMENT OF AGRICULTURE

Forest Service

Questa Ranger District, Carson National Forest; Taos County, NM; Taos Ski Valley's 2010 Master Development Plan—Phase 1 Projects; Additional Filings

AGENCY: Forest Service, USDA.

ACTION: Notice; correction.

SUMMARY: The USDA Forest Service published in the Federal Register a Notice of Intent (75 FR 71414-71415, November 23, 2010) to prepare an environmental impact statement for a proposal to authorize several (Phase 1) projects included in the Taos Ski Valley (TSV) 2010 Master Development Plan (MDP). The proposed projects include: Adding new lifts to serve terrain that is currently only accessible by hiking; replacing old lifts; creating new gladed terrain; improving traffic circulation throughout the day parking lots and a new drop-off area; constructing the Taos Adventure Center (snowtubing and snowshoeing trails); and developing a lift-served mountain biking trail. All proposed projects are within the existing special use permit (SUP) area.

Modification of the Proposed Action: The original proposed action submitted for public review included a proposal to develop the Taos Adventure Center, in the northwest portion of the SUP area. The center would have included snowtubing and snowshoeing trails and associated facilities. Upon further analysis, the Forest Service has modified the proposed action and proposes to develop the snowtubing trails where Chair 3 (Beginner Lift) and Strawberry Hill are currently located. The modified proposed action would: (1) Reduce the potential impacts to wildlife habitat and wetlands; (2) eliminate impacts to approximately 3.7 acres of a previously undisturbed area; (3) decrease the distance of the facility from the base area, which is the hub of activities; and (4) eliminate the need to construct a warming hut (yurt), restroom facilities, a foot bridge across the Rio Hondo, and snowmaking lines. The proposed snowtubing area would be located on both National Forest System lands and private land owned by TSV. The snowshoeing trails remain as originally proposed.

In addition, the Forest Service proposes to authorize under a separate SUP to John Cottam, the relocation of the Alpine Village pedestrian bridge. If the decision is to authorize a new skier drop-off area under TSV's SUP, the bridge would be simultaneously relocated and the Cottam SUP would be amended.

Corrected Dates: After publication of the original Notice of Intent, a letter soliciting comments on the proposed action and purpose and need was issued to the public in December 2010. Comments concerning the scope of the analysis were received in January and February 2011. The draft environmental impact statement (draft EIS) is expected to be available for public review in December 2011 and the final environmental impact statement (final EIS) and record of decision (ROD) are expected in May 2012.

ADDRESSES: Send written comments to Carson National Forest, Taos Ski Valley MDP—Phase 1 Projects, 208 Cruz Alta Road, Taos, NM 87571. Comments may also be sent via e-mail to comments-southwestern-carson@fs.fed.us or facsimile to (575) 758-6213.

FOR FURTHER INFORMATION CONTACT: Additional information related to the proposed project can be obtained from the Forest's Web page at: http://www.fs.fed.us/r3/carson/. The Forest Service contact is Audrey Kuykendall, who can be reached at 575-758-6200.

Dated: September 22, 2011.
Kendall Clark,
Carson National Forest Supervisor.

[FR Doc. 2011-25011 Filed 9-28-11; 8:45 am]

BILLING CODE 3410-11-P